DEPARTMENT OF EDUCATION

[Docket ID ED-2018-OSERS-0026]

Request for Information on the Future Direction of the Rehabilitation Training Program

AGENCY: Office of Special Education and Rehabilitative Services, Department of Education.

ACTION: Request for information.

SUMMARY: The U.S. Department of Education (Department) is requesting input on the portfolio of grants supported under the Rehabilitation Training Program, specifically those supported under the Rehabilitation Long-Term Training, Rehabilitation Short-Term Training, and Innovative Rehabilitation Training authorities to determine whether the activities funded under the Rehabilitation Training Program are aligned with the goals of the Department and the needs of State vocational rehabilitation (VR) agencies. We will use the information gathered in response to this request for information (RFI) to determine whether any changes are needed in designing and implementing grant activities under this program, including the specific mix of activities supported each year.

DATES: We must receive your submission on or before July 3, 2018.

ADDRESSES: Submit your response to this RFI through the Federal eRulemaking Portal or via postal mail, commercial delivery, or hand delivery. We will not accept submissions by fax or by email. To ensure that we do not receive duplicate copies, please submit your comments only one time. In addition, please include the Docket ID and the term “Future Direction of the Rehabilitation Training Program” at the top of your comments.

Federal eRulemaking Portal: Go to www.regulations.gov to submit your comments electronically. Information on using Regulations.gov, including instructions for accessing agency documents, submitting comments, and viewing the docket, is available on the site under the “Help” tab.

Postal Mail, Commercial Delivery, or Hand Delivery: If you mail or deliver your comments, address them to Mary F. Lovley, Office of Special Education and Rehabilitative Services, Rehabilitation Services Administration, Attention: Future Direction of Rehabilitation Training Program, U.S. Department of Education, 400 Maryland Avenue SW, Potomac Center Plaza, Room 5057, Washington, DC 20202-2800.

Privacy Note: The Department's policy for comments received from members of the public (including comments submitted by mail, commercial delivery, or hand delivery) is to make these submissions available for public viewing in their entirety on the Federal eRulemaking Portal at: www.regulations.gov. Therefore, commenters should be careful to include in their comments only information that they wish to make publicly available on the internet.

This is a request for information only. This RFI is not a request for proposals (RFP) or a promise to issue an RFP or a notice inviting applications (NIA). Please note that the Rehabilitation Services Administration (RSA) is not soliciting input related to the technical assistance (TA) activities funded under the Rehabilitation Training Program. RSA intends to request input on TA funding opportunities and activities in the future. This RFI does not commit the Department to contract for any supply or service whatsoever. Further, we are not seeking proposals and will not accept unsolicited proposals. The Department will not pay for any information or administrative costs that you may incur in responding to this RFI.

The documents and information submitted in response to this RFI become the property of the U.S. Government and will not be returned.

FOR FURTHER INFORMATION CONTACT: Mary F. Lovley, U.S. Department of Education, Office of Special Education and Rehabilitative Services, Rehabilitation Services Administration, 400 Maryland Avenue SW, Potomac Center Plaza, Room 5057, Washington, DC 20202-2800. Telephone: (202) 245-7423.

If you use a telecommunications device for the deaf (TDD) or a text telephone (TTY), call the Federal Relay Service (FRS), toll free, at 1-800-877-8339.

SUPPLEMENTARY INFORMATION: The Rehabilitation Training Program is authorized by title III of the Rehabilitation Act of 1973 (Rehabilitation Act), as amended by the Workforce Innovation and Opportunity Act (WIOA), and is administered by RSA of the Office of Special Education and Rehabilitative Services.

Through this RFI, we are seeking input on four areas:

(1) The preparation of VR program professionals through the Rehabilitation Long-Term Training program;

(2) The training of VR professionals through the Short-Term Training program;

(3) The need for investments in the development of innovative VR training programs; and

(4) How the Rehabilitation Long-Term Training, the Rehabilitation Short-Term Training, and the Innovative Rehabilitation Training programs can better support the implementation of the Rehabilitation Act, as amended by WIOA.

Context for Responses

We are interested in responses that contain data, specific examples and other relevant documentation to assist us in determining whether the discretionary grants funded under the Rehabilitation Training Program (specifically the Rehabilitation Long-Term Training, the Rehabilitation Short-Term Training, and the Innovative Rehabilitation Training programs) are aligned with the goals of the Department and the needs of State VR agencies. The Department wants to ensure Federal resources are efficiently and effectively targeted to best support State VR agency needs, including the requirements under the Rehabilitation Act, as amended by WIOA.

WIOA amended the Rehabilitation Act by making large-scale changes to the work of State VR agencies and VR counselors that required intensive capacity-building focused on both infrastructure and human capital. We are interested in how we can best support States in meeting the requirements of the law relating to pre-employment transition services, competitive integrated employment, and comprehensive systems of personnel development (CSPD). To that end, we are re-evaluating how RSA can best direct the limited resources of the program to meet the critical needs of State VR agencies. We are not seeking letters of support in a particular targeted area. Rather, it is our expectation that respondents will consider the questions RSA has developed in the context of their responses. A response to each question is not required.

We are seeking responses from a knowledgeable and diverse range of individuals, including, but not limited to, the following—

(1) State VR agency staff, including directors, supervisors, and counselors;

(2) Current or former project directors or principal investigators of grants funded under the Rehabilitation Training Program (specifically the Rehabilitation Long-Term Training, the Rehabilitation Short-Term Training, and the Innovative Rehabilitation Training programs);

(3) Current and former scholars funded under the Rehabilitation Long-Term Training program; and

(4) Consumers of VR services.

The questions in this RFI focus on the Department's training programs that prepare VR professionals. Responses will assist us in designing priorities for grants funded under the Rehabilitation Training Program (specifically the Rehabilitation Long-Term Training, the Rehabilitation Short-Term Training, and the Innovative Rehabilitation Training programs) that—

(1) Reflect current knowledge and skills needed by VR professionals;

(2) Effectively link the employment needs of individuals with disabilities with current workforce demands;

(3) Demonstrate cost-effective practices used by State VR professionals; and

(4) Address personnel shortages in the field of VR counseling through training.

I. Rehabilitation Long-Term Training Program

Background

The Rehabilitation Long-Term Training program, authorized by Section 302 of the Rehabilitation Act and the program regulations at 34 CFR part 381, provides financial assistance for projects that provide: (1) Basic or advanced training leading to an academic degree in one of the areas outlined below; (2) a specified series of courses or program of study leading to the award of a certificate in one of the areas outlined below; or (3) support for medical residents enrolled in residency training programs in the specialty of physical medicine and rehabilitation. The Rehabilitation Long-Term Training program is designed to provide academic training that leads to an academic degree or academic certificate in areas of personnel shortages identified by the Secretary and published in a notice in the Federal Register. These areas may include—

(1) Assisting and supporting individuals with disabilities pursuing self-employment, business ownership, and telecommuting;

(2) VR counseling;

(3) Rehabilitation technology, including training on its use, applications, and benefits;

(4) Rehabilitation medicine;

(5) Rehabilitation nursing;

(6) Rehabilitation social work;

(7) Rehabilitation psychiatry;

(8) Rehabilitation psychology;

(9) Rehabilitation dentistry;

(10) Physical therapy;

(11) Occupational therapy;

(12) Speech pathology and audiology;

(13) Physical education;

(14) Therapeutic recreation;

(15) Community rehabilitation program personnel;

(16) Prosthetics and orthotics;

(17) Rehabilitation of individuals who are blind or visually impaired, including rehabilitation teaching and orientation and mobility;

(18) Rehabilitation of individuals who are deaf or hard of hearing;

(19) Rehabilitation of individuals who are mentally ill;

(20) Undergraduate education in the rehabilitation services;

(21) Independent living;

(22) Client assistance;

(23) Administration of community rehabilitation programs;

(24) Rehabilitation administration;

(25) Vocational evaluation and work adjustment;

(26) Services to individuals with specific disabilities or specific impediments to rehabilitation, including individuals who are members of populations that are unserved or underserved by programs under the Rehabilitation Act;

(27) Job development and job placement services to individuals with disabilities;

(28) Supported employment services and customized employment services for individuals with the most significant disabilities;

(29) Specialized services for individuals with significant disabilities; and

(30) Other fields contributing to the rehabilitation of individuals with disabilities.

The Rehabilitation Long-Term Training program regulations at 34 CFR 386.31 require that 65 percent of the total cost of the project be used for scholarships. Section 302 of the Rehabilitation Act requires individuals who receive a scholarship either to (1) work two years in a nonprofit rehabilitation agency or related agency or in a State rehabilitation agency or related agency for every year of assistance or (2) repay all or part of any scholarship received, plus interest, if the individual does not fulfill these requirements.

Under the priorities used for the current grant cycle (78 FR 66271 and 79 FR 42680), grantees must build close relationships with State VR agencies, promote careers in VR, identify potential employers who would meet the trainees' payback requirements, and ensure that data on the employment of scholars are accurate. Scholars in the program must complete an internship in a State VR agency or a related agency as a requirement for completion of a program leading to a master's degree. The internship must be in a State VR agency unless the VR agency does not directly perform work related to the scholar's course of study or an applicant can provide sufficient justification that it is not feasible for all scholars receiving scholarships to complete an internship in a State VR agency.

The Department currently supports 106 academic training grants awarded to colleges and universities with graduate and certificate programs in the field of VR. Some grants support more than one degree or certificate. The breakdown of the degree programs offered by the recipients of the 106 grants is as follows:

Areas | Number of grantees | Number of cert. programs | Number of masters programs
Rehabilitation Counseling (84.129B) | 73 | 0 | 73
Vocational Evaluation (84.129F) | 2 | 1 | 1
Rehabilitation of Individuals with Mental Illnesses (84.129H) | 12 | 0 | 12
Rehabilitation of Individuals Who Are Blind or Who Have Low Vision (84.129P) | 9 | 2 | 8
Rehabilitation of Individuals Who Are Deaf or Hard of Hearing (84.129Q) | 3 | 0 | 4
Grants to Assist VR Agency Staff to Meet CSPD Requirements (84.129W) | 7 | 1 | 6

Questions

1.1. In your State or local area, what are the current and projected employment opportunities in the field of VR counseling and related specialty areas, and what are the degree and/or certificate requirements for these employment opportunities (e.g., bachelor's, masters, or doctoral degree)?

1.2. The Department currently provides funding in six of the possible 30 specialty areas. What are your recommendations for the specialty areas that the Department should support, given the changes in the Rehabilitation Act, as amended by WIOA, and the current needs of the State VR agencies?

1.3. Should the Department fund bachelor-level programs, and, if so, should they be general VR counselor programs, areas other than VR counseling, or a combination of the two? Please explain.

1.4. How do VR counseling degree or certificate programs ensure that they are adequately preparing VR counselors to meet skill demands now and in the future? How have VR counseling degree or certificate programs changed to address the requirements of the Rehabilitation Act, as amended by WIOA (e.g., requirements for pre-employment transition services, emphasis on competitive integrated employment, etc.)?

1.5. How do colleges and universities ensure that VR counselor programs remain current and effective in meeting State VR agencies' CSPD requirements?

1.6. How can the Department increase the percentage of scholars who (a) complete a VR counseling program, (b) obtain qualifying employment after completing the program, and (c) obtain employment in State VR agencies?

1.7. Do the curricula used by VR counseling programs reflect the emerging trends and evidence-based practices in VR?

1.8. Currently, the Department provides colleges and universities with 5 year grants of up to $200,000 annually for VR counseling programs and grants of up to $150,000 annually for the other specialty areas. Are these funding levels appropriate? If not, what funding levels would be appropriate?

1.9. Colleges and universities vary in the amount of scholarship funds they provide to scholars both within a single institution and across institutions. Should colleges and universities award scholarships that are consistently more substantial to fewer scholars rather than smaller amounts to a greater number of scholars? Would this approach increase overall outcomes in terms of successful completion of the VR counseling program and in obtaining qualified employment?

1.10. What do you anticipate will be the cost of scholar support in the next 5 to 10 years? Based on this cost, approximately how many scholars could be adequately served with a $750,000 grant (i.e., $150,000 each year for five years) and $1,000,000 grant (i.e., $200,000 each year for five years)?

1.11. What percentage of your college or university's VR counseling degree seekers receive a scholarship through this program?

1.12. What is the effect of the requirement that scholars complete an internship in a State VR agency or related agency as part of their program? How has the requirement for internships at State VR agencies or related agencies affected the scholars' ability to obtain qualifying employment? Should these internships be required? Are there other avenues for scholars to gain experience? Is there another method to ensure scholars receive experience beyond the practicum?

1.13. Do State VR agencies have the capacity to support internships for the number of scholars who need to complete them? If not, is there a sufficient number of related agencies (i.e., an American Indian rehabilitation program; or a Federal, State, or local agency, nonprofit organization, or a professional corporation or practice group that provide services to individuals with disabilities under an agreement or other arrangement with a designated State agency in the area of specialty for which training is provided) to provide internship experiences?

1.14. How has the merger of the Council on Rehabilitation Education (CORE) with the Council of Accreditation of Counseling and Related Educational Programs (CACREP) affected Long-Term Training grantees? Is there anything in the current Long-Term Training grant program that is in conflict with the CACREP requirements?

1.15. How have the changes in WIOA related to CSPD benefited or hurt Long-Term Training grantees? Are there any new Long-Term Training needs as a result of these changes?

1.16. RSA supported a much larger number of masters level Long-Term Training grants in recent years than in the past. Are the VR masters degree programs able to find enough qualified scholars?

1.17. Are there sufficient vacancies for scholars to find employment in the State VR agencies, or in agencies that have agreements with the State VR agencies, especially for States that have multiple Long-Term Training awards?

II. Rehabilitation Short-Term Training Program

Background

The Rehabilitation Short-Term Training program, authorized by section 302 of the Rehabilitation Act and the program regulations at 34 CFR part 390, supports special seminars, institutes, workshops, and other short-term courses in technical matters relating to vocational, medical, social, and psychological rehabilitation programs; independent living service programs; and the Client Assistance Program. These projects are evaluated based on their relevance to the State-Federal VR programs and whether they improve the skills and competencies of personnel engaged in the administration or delivery of rehabilitation services and meet the training needs of States.

The Department currently funds one Client Assistance Program training and technical assistance grantee at $200,000 each year for five years.

We are seeking information about whether the existing Short-Term Training resources are meeting State needs to implement the requirements in WIOA.

Questions

2.1. Should the Department direct more resources to Short-Term Training?

2.2. Have the existing Short-Term Training resources met State VR agency needs? If not, how could existing resources be better leveraged or additional resources be used to meet needs?

2.3. What Short-Term Training areas are the greatest needs for State VR agencies, especially given the changes in WIOA?

2.4. How can this program better support State VR agencies as they implement their CSPD?

2.5. How can the Short-Term Training program address the need for no-cost preparation for VR professionals?

III. Innovative Rehabilitation Training Program

Background

The Innovative Rehabilitation Training program, authorized by section 302 of the Rehabilitation Act and the program regulations at 34 CFR part 387, is designed to—

(a) Develop new types of training programs for VR personnel and demonstrate the effectiveness of these new types of training programs for VR personnel in improving the delivery of VR services to individuals with disabilities;

(b) Develop new and improved methods for training VR personnel so that there may be a more effective delivery of VR services to individuals with disabilities by designated State VR agencies and designated State VR units or other public or nonprofit VR service agencies or organizations;

(c) Develop new innovative training programs for VR professionals and paraprofessionals that provide instruction on the evolving 21st-century labor force and the needs of individuals with disabilities so they can more effectively provide VR services to individuals with disabilities; and

(d) Investigate the efficacy of new curricula to address system change resulting from implementation of the requirements in WIOA.

The Department does not currently fund any grants under this program.

We are seeking information about whether new types of training programs for VR personnel, new and improved methods of training VR personnel, or new innovative training programs for VR professionals and paraprofessionals are needed.

Questions

3.1. Should the Department fund grants under this authority?

3.2 What topical areas would best support State VR agencies' implementation of the requirements in WIOA?

3.3 In recent years, a number of VR counseling programs have closed, including programs that had Long-Term Training grant funding. Is there a more innovative way to deliver VR counselor programs? If so, please describe.

3.4 What type of innovative training projects might be supported to develop a new training curriculum to address system changes resulting from implementation of the requirements in WIOA?

3.5 What type of innovative training project might be supported to prepare VR professionals and paraprofessionals to have a 21st-century understanding of the evolving labor force and the needs of individuals with disabilities?

Accessible Format: Individuals with disabilities can obtain this document in an accessible format (e.g., braille, large print, audiotape, or compact disc) on request to the program contact person listed under FOR FURTHER INFORMATION CONTACT.

Electronic Access to This Document: The official version of this document is the document published in the Federal Register. You may access the official edition of the Federal Register and the Code of Federal Regulations via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Program Authority: 20 U.S.C. 6771.

Dated: April 30, 2018.
Johnny W. Collett,
Assistant Secretary for Special Education and Rehabilitative Services.

[FR Doc. 2018-09429 Filed 5-3-18; 8:45 am]

BILLING CODE 4000-01-P